DEPARTMENT OF HOUSING AND URBAN DEVELOPMENT

[Docket No. FR-5750-N-31]

Federal Property Suitable as Facilities To Assist the Homeless

AGENCY: Office of the Assistant Secretary for Community Planning and Development, HUD.

ACTION: Notice.

SUMMARY: This Notice identifies unutilized, underutilized, excess, and surplus Federal property reviewed by HUD for suitability for use to assist the homeless.

FOR FURTHER INFORMATION CONTACT: Juanita Perry, Department of Housing and Urban Development, 451 Seventh Street SW., Room 7266, Washington, DC 20410; telephone (202) 402-3970; TTY number for the hearing- and speech-impaired (202) 708-2565 (these telephone numbers are not toll-free), or call the toll-free Title V information line at 800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, and suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to Theresa Ritta, Ms. Theresa M. Ritta, Chief Real Property Branch, the Department of Health and Human Services, Room 5B-17, Parklawn Building, 5600 Fishers Lane, Rockville, MD 20857, (301)-443-2265 (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Ann Marie Oliva at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: AGRICULTURE: Ms. Debra Kerr, Department of Agriculture, Reporters Building, 300 7th Street, SW., Room 300, Washington, DC 20024, (202)-720-8873; AIR FORCE: Ms. Connie Lotfi, Air Force Real Property Agency, 143 Billy Mitchell Blvd., San Antonio, TX 78226, (210) 925-3047; ARMY: Ms. Veronica Rines, Office of the Assistant Chief of Staff for Installation Management, Department of Army, Room 5A128, 600 Army Pentagon, Washington, DC 20310, (571)-256-8145; COE: Mr. Scott Whiteford, Army Corps of Engineers, Real Estate, CEMP-CR, 441 G Street, NW., Washington, DC 20314; (202) 761-5542; ENERGY: Mr. David Steinau, Department of Energy, Office of Property Management, 1000 Independence Ave, SW., Washington, DC 20585 (202) 287-1503; GSA: Mr. Flavio Peres, General Services Administration, Office of Real Property Utilization and Disposal, 1800 F Street NW., Room 7040 Washington, DC 20405, (202) 501-0084; NAVY: Mr. Steve Matteo, Department of the Navy, Asset Management Division, Naval Facilities Engineering Command, Washington Navy Yard, 1330 Patterson Ave., SW., Suite 1000, Washington, DC 20374; (202) 685-9426 (These are not toll-free number).

Dated: July 24, 2014.
Ann Marie Oliva,
Deputy Assistant Secretary (Acting) for Special Needs.

Title V, Federal Surplus Property Program Federal Register Report for 08/01/2014

Suitable/Available Properties

Building

California

Alder Springs Multi-Function, 2212

3339 County Road 307

P.O. Box 27

Elk Creek CA 95939

Landholding Agency: Agriculture

Property Number: 15201430002

Status: Excess

Comments: 8,172 sq. ft.; good conditions; storage; 48+ years old; under a special use permit; site gated; contact Agriculture for more information

Alder Springs GYM; 2803

3339 County Road 307

Elk Creek CA 95939

Landholding Agency: Agriculture

Property Number: 15201430003

Status: Excess

Comments: 9,679 sq. ft.; 48+ years old; good conditions; under special use permit; site is gated; contact Agriculture for more information

Hunter Point Radio Vault

3306; 2401 Hunter Point Rd.

Witter Springs, CA 95493

Landholding Agency: Agriculture

Property Number: 15201430005

Status: Excess

Comments: 94 sq. ft.; 52+ years old; fair conditions; contact Agriculture for more information

Bldg. 53

Navy Lodge on RT Jones Rd.

Mountain View CA

Landholding Agency: Army

Property Number: 21201430003

Status: Excess

Comments: off-site removal only; 960 sq. ft.; storage; poor conditions; contact Army for more information

Colorado

Building 00001

Hawkinsville Space Surveillance Station

Peterson AFB CO

Landholding Agency: Air Force

Property Number: 18201430002

Status: Excess

Comments: 2,880 sq. ft.; 4+ months vacant; fair to good conditions; environmental conditions exist; contact Air Force for more information

Building 0001

Lake Kickapoo Space Surveillance Station

Peterson AFR CO

Landholding Agency: Air Force

Property Number: 18201430003

Status: Excess

Comments: 3,710 sq. ft.; 9+ months vacant; fair to good conditions; environmental condition exist; contact Air Force

Building 00006

Red River Space Surveillance Center

Peterson AFK CO

Landholding Agency: Air Force

Property Number: 18201430004

Status: Excess

Comments: 196 sq. ft.; 4+ months vacant; fair to good conditions; contact Air Force for more information

Building 00003

Tattnall Space Surveillance Station

Peterson AFR CO

Landholding Agency: Air Force

Property Number: 18201430005

Status: Excess

Comments: 800 sq. ft.; 4+ months vacant; good to fair conditions; contact Air Force for more information

Building 00003

Hawkinsville Space Surveillance Station

Peterson AFB CO

Landholding Agency: Air Force

Property Number: 18201430006

Status: Excess

Comments: 1,650 sq. ft.; 4+ months vacant; good to fair conditions; contact Air Force for more information

Lake Kickapoo Space Surveillance Station

Peterson AFB CO

Landholding Agency: Air Force

Property Number: 18201430007

Status: Excess

Comments: 800 sq. ft.; 4+ months vacant; repairs needed; contact Air Force for more information

Jordan Lake Space Surveillance Station

Peterson AFB CO

Landholding Agency: Air Force

Property Number: 18201430008

Status: Excess

Directions: Buildings 00001; 00003; 00006

Comments: Building 1: 2,565 sq. ft.; building 3: 800 sq. ft.; building 6: 156 sq. ft.; good to moderate conditions; contact Air Force for more information

Building 00006

Hawkinsville Space Surveillance Station

Peterson AFB CO

Landholding Agency: Air Force

Property Number: 18201430009

Status: Excess

Comments: 172 sq. ft.; repairs needed; contact Air Force for more information

4 Buildings

San Diego Space Surveillance Station

Peterson AFB CO

Landholding Agency: Air Force

Property Number: 18201430010

Status: Excess

Directions: Buildings 00001; 00003; 00026; 00081

Comments: Building: 1=5,002 sq. ft.; Building: 3=900 sq. ft.; Building 26=500 sq. ft.; Building 81=800 sq. ft.; good to poor conditions; contact Air Force for more information

3 Buildings

Lake Kickapoo Space Surveillance Station

Peterson AFB CO

Landholding Agency: Air Force

Property Number: 18201430017

Status: Excess

Directions: Buildings 00006; 00007; 00009

Comments: Building 6—400 Sq. ft.; building 7—1,109 sq. ft.; building 9—100 sq. ft.; repairs needed; contact Air Force for more information

Buildings 00001 and 00003

Red River Space Surveillance Center

Peterson AFB CO

Landholding Agency: Air Force

Property Number: 18201430018

Status: Excess

Comments: Building 1 -2,755 sq. ft.; building 3—775 sq. ft.; good conditions; contact Air Force for more information

2 Buildings

Tattnall Space Surveillance Station

Peterson AFB CO

Landholding Agency: Air Force

Property Number: 18201430019

Status: Excess

Directions: Buildings 00006 and 00001

Comments: Building 6—80 sq. ft.; building 1—2,807 sq. ft.; good conditions; contact Air Force for more information

Idaho

Building 4215

Lat. 47.77190W Long. −116.61143

Coure d'Alene ID

Landholding Agency: GSA

Property Number: 54201430006

Status: Surplus

GSA Number: 10-A-ID-0588

Directions: Landholding Agency; US Forest Service; Disposal Agency; GSA

Comments: Off-site removal only; 186 sq. ft.; 12+ months vacant; repairs needed

Illinois

465 Buildings

58049 Midewin NTP

Wilmington IL 60481

Landholding Agency: Agriculture

Property Number: 15201430001

Status: Unutilized

Directions: previously reported by Army/published in 10/31/95 FR; bldgs. have been transferred to Agric.; bldgs. varies in square footage and current use; please contact Agriculture for more detailed information

Comments: off-site removal only; no future agency need; removal may be extremely difficult due to age/condition and structure type; no maintenance for 17+ yrs.; secured area; contact Agriculture for more info

Maryland

Carroll County Memorial USA RC

404 Malcolm Drive

Westminster MD 21157

Landholding Agency: GSA

Property Number: 54201430003

Status: Excess

GSA Number: 4-DMD-1130AA

Directions: Landholding agency; Army; Disposal Agency; GSA

Comments: 3 Building totaling 15,719 sq. ft., storage/maintenance good conditions; asbestos/lead-based paint/polychlorinated biphenyl; remediation required; contact GSA for more information

Michigan

Alpena Co Reg Apt

5884 A Street; Bulling 4012

Alpena MI 49707-8125

Landholding Agency: Air Force

Property Number: 18201430028

Status: Unutilized

Comments: Off-site removal only; no future agency need; 2,000 sq. ft.; office/storage; deteriorated secured area; contact Air Force for more information

Oklahoma

11 Buildings

23115 West Wekiwa Road

Sand Springs OK 74063-9312

Landholding Agency: COE

Property Number: 31201430002

Status: Underutilized

Directions: 43517; 43518; 43494; 43495; 43430; 43431; 43485; 43454; 43455; 43498; 43499

Comments: Off-site removal only; no future agency need; sq. ft. varies; repairs needed; contact COE for more information

4 Buildings

23115 West Wekiwa Road

Sand Springs OK 74063-9312

Landholding Agency: COE

Property Number: 31201430003

Status: Underutilized

Directions: 43897; 43898; 43906; 43907

Comments: Off-site removal only; no future agency need; sq. ft. varies; repairs needed contact COE for more information

Oregon

Fiddler Mt. Telecom BLD

(1138.005181)

07663; 00; Redwood HWY

Kerby OR 97538

Landholding Agency: Agriculture

Property Number: 15201430004

Status: Excess

Comments: 36 sq. ft.; 37+ years old; rodents and insect infestation; contact Agriculture for more information

Puerto Rico

00801

Fort Buchanan

Fort Buchanan PR 00934

Landholding Agency: Army

Property Number: 21201430001

Status: Excess

Directions: 00801

Comments: Off-site removal only; 2.128 sq. ft.; 12+ months vacant; deteriorated; secured area; contact Army for more information

Texas

2 Buildings; Natural Resource

Conservation Service Waco Facility

200 South Price Street

Waco TX 76501

Landholding Agency: GSA

Property Number: 54201430007

Status: Surplus

GSA Number: 7-A-TX-0556

Directions: Landholding agency; Agriculture; Disposal Agency; GSA.

Comments: 18,460 sq. ft.; storage; 60+ months vacant; very poor condition; within a security fence; contact GSA for more information

Virginia

Johnson House and Shed

12503 Cavalry Court

Spotsylvania VA 22553

Landholding Agency: GSA

Property Number: 54201430005

Status: Excess

GSA Number: 4-I-VA-1145AA

Directions: Landholding Agency; Interior; Disposal Agency; GSA

Comments: Off-site removal only; 1,357 +/− sq. ft.; repairs needed; contact GSA for more information

Land

Colorado

Red River Space Surveillance Center

Lat. 33.19 50.77431 N Long. 093.33 00.35121 W

Peterson AFB CO

Landholding Agency: Air Force

Property Number: 18201430011

Status: Excess

Comments: 60 acres; contact Air Force form more information

Jordan Lake Space Surveillance Station

Lat. 32 39 32.4828 N Long. 086 15 48.6672 W

Peterson AFB CO

Landholding Agency: Air Force

Property Number: 18201430012

Status: Excess

Comments: 9 acres; contact Air Force for more information

San Diego Space Surveillance Station

Lat. 32 34 38.69636 N Long. 116 58 28.92446 W

Peterson AFB CO

Landholding Agency: Air Force

Property Number: 18201430013

Status: Excess

Comments: 109 acres; contact Air force for more information

Colorado

Lake Kickapoo Space Surveillance Station

Lat. 33 33 14.33880 N Long. 098 45 46.47286 W

Peterson AFB CO

Landholding Agency: Air Force

Property Number: 18201430014

Status: Excess

Comments: 1,342 acres; contact Air Force for m more information

Hawkinsville Space Surveillance Station

Lat. 32 17 15.1011 N Long. 083 32 11.1625 W

Peterson AFB CO

Landholding Agency: Air Force

Property Number: 18201430015

Status: Excess

Comments: 131 acres; contact Air Force for more information

Tattnall Space Surveillance Station

Lat. 32 02 37.6891 N Long. 081 55 33.2267 W

Peterson AFB CO

Landholding Agency: Air Force

Property Number: 18201430016

Status: Excess

Comments: 102 acres; contact Air Force for more information

Illinois

FAA Outer Marker

5549 Elizabeth Place

Rolling Meadows IL

Landholding Agency: GSA

Property Number: 54201430004

Status: Excess

GSA Number: I-U-IL-807

Directions: Landholding Agency; FAA; Disposal Agency; GSA

Comments: 9,640 sq. ft.; 12+ months vacant; outer marker to assist planes landing at O'Hare Airport; contact GSA for more information

Missouri

Former Nike Battery Site

Kansas City 30

15616 S KK Highway

Pleasant Hill MO 64080

Landholding Agency: GSA

Property Number: 54201430002

Status: Surplus

GSA Number: 7-D-MO-0522

Comments: 19.52 acres +/− and 4.02 easement acres +/−; education use; contact GCA for more information

Unsuitable Properties

Building

California

6 Building

Travis AFB

Travis CA 94535

Landholding Agency: Air Force

Property Number: 18201430001

Status: Unutilized

Directions: 713; 43; 723; 720; 242; 40

Comments: Public access denied and no alternative without compromising national security

Reasons: Secured Area

Building 23198

MCAS Camp Pendleton

Camp Pendleton CA 92055

Landholding Agency: Navy

Property Number: 77201430001

Status: Excess

Directions: 23198

Comments: Public access denied and no alternative without compromising national security

Reasons: Secured Area

Building 9603

Marine Corps Air Station Miramar

San Diego CA

Landholding Agency: Navy

Property Number: 77201430002

Status: Excess

Directions: 9603

Comments: Du to anti-terrorism/force protection public access denied and no alternation without compromising national security

Reasons: Secured Area

Georgia

Facility 273

Savannah Hilton Head International Airport

Garden City GA 31408

Landholding Agency: Air Force

Property Number: 18201430026

Status: Unutilized

Comments: Public access denied and no alternate without compromising national security

Reasons: Secured Area

Mississippi

Building 156

4715 Hewes Avenue Gulfport

Gulfport MS 39507-4324

Landholding Agency: Air Force

Property Number: 18201430021

Status: Unutilized

Comments: No public access denied and no alterative without compromising; national security

Reasons: Secured Area

Nevada

2 Buildings

National Guard Way

Reno NV 89502

Landholding Agency: Air Force

Property Number: 18201430023

Status: Excess

Directions: 8; 10

Comments: Public access denied and no alterative without compromising; national security

Reasons: Secured Area

10

1776 National Guard Way

Reno NV 89502

Landholding Agency: Air Force

Property Number: 18201430029

Status: Excess

Comments: Public access denied and no alternate without compromising national security

Reasons: Secured Area

New York

Building 130, Energy Sciences & Technology

Brookhaven National Lab

Upton NY 11973

Landholding Agency: Energy

Property Number: 41201430001

Status: Excess

Comments: Public access denied and no alternative method to gain access without compromising national security

Reasons: Secured Area

Oklahoma

302

Tulsa Air National Guard Base

9100 E 46th Street North

Tulsa OK 74115

Landholding Agency: Air Force

Property Number: 18201430020

Status: Unutilized

Comments: Public access denied and no alternation without compromising national security

Reasons: Secured Area

Rhode Island

372

RI ANG Station, Quonset RI (TWLR)

210 Airport Street

North Kingstown RI

Landholding Agency: Air Force

Property Number: 18201430024

Status: Excess

Comments: Public access denied and no alternative without compromising national security

Reasons: Secured Area

372

210 Airport Street

North Kingstown RI

Landholding Agency: Air Force

Property Number: 18201430031

Status: Excess

Comments: Public access denied and no alternate without compromising national security

Reasons: Secured Area

Texas

1399

FWJS

14657 Sneider

Houston TX 77034

Landholding Agency: Air Force

Property Number: 18201430022

Status: Excess

Comments: Public access denied and no alterative without compromising; national security

Reasons: Secured Area

1289

FWJH

14657 Sneider

Houston TX 77034

Landholding Agency: Air Force

Property Number: 18201430025

Status: Excess

Comments: Public access denied and no alternate without compromising national security

Reasons: Secured Area

Virginia

726 and 730

Radford Army Ammunition Plant

Radford VA 24143-0002

Landholding Agency: Army

Property Number: 21201430002

Status: Underutilized

Directions: 726; 730

Comments: Public access denied and no alternative without compromising national security

Reasons: Secured Area

Wisconsin

303

HTUV

350 East College Avenue

Milwaukee WI 53207

Landholding Agency: Air Force

Property Number: 18201430027

Status: Excess

Comments: Public access denied and no alternate without compromising national security

Reasons: Secured Area

Wyoming

Building 00017

Cheyenne RAP, DPEZ

217 Dell Range Blvd.

Cheyenne WY 82009-4799

Landholding Agency: Air Force

Property Number: 18201430030

Status: Excess

Comments: Public access denied and no alternate without compromising national security

Reasons: Secured Area

[FR Doc. 2014-17837 Filed 7-31-14; 8:45 am]

BILLING CODE 4210-67-P